DEPARTMENT OF DEFENSE

Department of the Army

Notice of Availability of the Fort Bliss, Texas and New Mexico, Mission Master Plan Supplemental Programmatic Environmental Impact Statement

AGENCY: Department of the Army, DoD.

ACTION: Notice of availability.

SUMMARY: The Department of the Army announces the availability of a Draft Supplemental Programmatic Environmental Impact Statement (DSEIS) identifying the potential environmental effects of changing land and airspace use at Fort Bliss to support evolving changes in missions and units and support Army Transformation, Integrated Global Presence and Basing Strategy, Base Realignment And Closure (BRAC), the Army Campaign Plan and other Army initiatives.

The SEIS will supplement the Fort Bliss, Texas and New Mexico, Mission Master Plan Programmatic Environmental Impact Statement (PEIS), for which a Record of Decision was signed in 2001.

DATES: The public comment period for the DSEIS will end 60 days after publication of the NOA in the Federal Register by the U.S. Environmental Protection Agency.

ADDRESSES: Written comments should be sent to: Mr. John F. Barrera, Directorate of Environment, B624 Pleasonton Avenue, Attention: IMSW-BLS-Z, (barreraj), Forest Bliss, TX 79916-6812; facsimile: (915) 568-3548; e-mail: SEIS@bliss.army.mil.

FOR FURTHER INFORMATION CONTACT: Ms. Jean Offutt, Public Affairs Officer, IMSW-BLS-PA; Fort Bliss, TX 79916-6812; telephone: (915) 568-6812; fax: (915) 568-2995; e-mail: jean.offutt@bliss.army.mil.

SUPPLEMENTARY INFORMATION: The Proposed Action would change land use in the Main Cantonment to support units assigned to Fort Bliss under BRAC, and in the Fort Bliss Training Complex to support construction of live-fire ranges and off-road maneuver space needed to train soldiers to doctrinal standards. In addition to the Proposed Action, the DSEIS analyzes the environmental affects of three other action alternatives and a no action alternative.

The action alternatives differ in the amount (216,000-352,000 acres) and location of land in the Tularosa Basin portion of McGregor Range proposed for off road maneuver, resulting in varied abilities to meet the defined need for maneuver training, accommodate units and missions in addition to the BRAC package, and flexibility to meet future requirements. Those portions of McGregor Range outside the Tularosa basin, specifically Otero Mesa and the Sacramento Mountain foothills, will not experience changes in land use.

Issues associated with land use changes in the Training Complex include potential impacts to natural resources and cultural resources, potential land use conflicts with grazing portions of the off-road maneuver space on McGregor Range, access to roads to the Forest Service grazing allotments on McGregor Range, recreational use of McGregor Range, and closures of NM Highway 506. Noise issues are part of the upgrade, or construction of firing ranges.

Issues associated with land use changes and construction in the Main Cantonment include potential increases in noise and dust, and transportation issues. Socioeconomic issues include population growth and development, public services and utilities, education, and quality of life.

Alternative four, the Proposed Action, is anticipated to generate substantial economic benefits and significantly affect population growth and development, traffic, utility demands, and demand for public and medical services in the region. Expansion of off-road vehicle maneuver training into the Tularosa Basin portion of McGregor Range, along with increased maneuvers in the North and South Training Areas, is expected to increase wind and water erosion and will likely result in long-term changes in vegetation communities in the more intensely used training areas. Training related noise is also expected to increase in areas adjacent to Doña Ana Range and portions of McGregor Range.

Copies of the Draft SEIS are available for review at the following libraries: In El Paso, the Richard Burges Regional Library, 9600 Dyer; the Irving Schwartz Branch Library, 1865 Dean Martin; the Clardy Fox Branch Library, 5515 Robert Alva; and the Doris van Doren Regional Branch Library, 551 Redd Road. In Las Cruces, NM, the New Mexico State University Zuhl Library at 2999 McFie Circle; and in Alamogordo, NM at the Alamogordo Public Library, 920 Oregon Avenue. The document can also be reviewed at https://www.bliss.army.mil.

Public meetings will be announced through regional newspapers and other public affairs outlets. These public meetings will be held in El Paso, Las Cruces and Alamogordo to accept comments on the DSEIS, and are expected to occur in November 2006.

Dated: October 5, 2006.
John A. Macdonald,
Brigadier General, U.S. Army, Director, Installation Management Agency.

[FR Doc. 06-8667 Filed 10-13-06; 8:45 am]

BILLING CODE 3710-08-M